DEPARTMENT OF HOMELAND SECURITY

Federal Emergency Management Agency

[Docket ID FEMA-2014-0002; Internal Agency Docket No. FEMA-B-1405]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Maryland: Frederick | City of Frederick, (14-03-0540P) | The Honorable Randy McClement, Mayor, City of Frederick, 101 North Court Street, Frederick, MD 21701 | Department of Engineering, 140 West Patrick Street, Frederick, MD 21701 | http://www.msc.fema.gov/lomc | June 23, 2014 | 240030
New Mexico:
Bernalillo | City of Albuquerque, (13-06-2926P) | The Honorable Richard J. Berry, Mayor, City of Albuquerque, P.O. Box 1293, Albuquerque, NM 87103 | Development and Review Services Division, 600 2nd Street Northwest, Room 201, Albuquerque, NM 87102 | http://www.msc.fema.gov/lomc | May 5, 2014 | 350002
Bernalillo | Unincorporated areas of Bernalillo County, (13-06-2994P) | The Honorable Maggie Hart Stebbins, Chairman, Bernalillo County Board of Commissioners, 1 Civic Plaza Northwest, Albuquerque, NM 87102 | Bernalillo County Public Works Division, 2400 Broadway Boulevard Southeast, Albuquerque, NM 87102 | http://www.msc.fema.gov/lomc | May 1, 2014 | 350001
Bernalillo | Unincorporated areas of Bernalillo County, (13-06-2926P) | The Honorable Maggie Hart Stebbins, Chairman, Bernalillo County Board of Commissioners, 1 Civic Plaza Northwest, Albuquerque, NM 87102 | Bernalillo County Public Works Division, 2400 Broadway Boulevard Southeast, Albuquerque, NM 87102 | http://www.msc.fema.gov/lomc | May 5, 2014 | 350001
Oklahoma: Oklahoma | City of Oklahoma City, (13-06-3216P) | The Honorable Mick Cornett, Mayor, City of Oklahoma City, 200 North Walker Avenue, 3rd Floor, Oklahoma City, OK 73102 | 420 West Main Street, Suite 700, Oklahoma City, OK 73102 | http://www.msc.fema.gov/lomc | June 9, 2014 | 405378
Pennsylvania: Bucks | Borough of New Hope, (14-03-0111P) | Mr. John Burke, Manager, Borough of New Hope, 123 New Street, New Hope, PA 18938 | Borough Hall, 123 New Street, New Hope, PA 18938 | http://www.msc.fema.gov/lomc | June 9, 2014 | 420195
Puerto Rico | Commonwealth of Puerto Rico, (13-02-1051P) | Mr. Luis Garcia Pelatti, President, Puerto Rico Planning Board, Roberto Sanchez Vilella Governmental Center, North Building, 16th Floor, De Diego Avenue International Baldorioty de Castro Avenue, San Juan, PR 00940 | Commonwealth of Puerto Rico, Roberto Sanchez Vilella Governmental Center, North Building, 9th Floor, De Diego Avenue International Baldorioty de Castro Avenue, San Juan, PR 00940 | http://www.msc.fema.gov/lomc | May 29, 2014 | 720000
Texas:
Bexar | Unincorporated areas of Bexar County, (13-06-3877P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | May 27, 2014 | 480035
Collin | City of Frisco, (13-06-2575P) | The Honorable Maher Maso, Mayor, City of Frisco, 6101 Frisco Square Boulevard, Frisco, TX 75034 | City Hall, 6101 Frisco Square Boulevard, Frisco, TX 75034 | http://www.msc.fema.gov/lomc | May 27, 2014 | 480134
Rockwall | City of McLendon-Chisholm, (13-06-2902P) | The Honorable Gary L. Moody, Mayor, City of McLendon-Chisholm, 1248 South State Highway 205, McLendon-Chisholm, TX 75032 | City Hall, 1248 South State Highway 205, McLendon-Chisholm, TX 75032 | http://www.msc.fema.gov/lomc | June 6, 2014 | 480546
Smith | City of Tyler, (13-06-3378P) | The Honorable Barbara Bass, Mayor, City of Tyler, P.O. Box 2039, Tyler, TX 75710 | 423 West Ferguson Street, Tyler, TX 75710 | http://www.msc.fema.gov/lomc | May 27, 2014 | 480571
Smith | Unincorporated areas of Smith County, (13-06-3378P) | The Honorable Joel Baker, Smith County Judge, 200 East Ferguson Street, Suite 100, Tyler, TX 75702 | Smith County Road and Bridge Department, 1700 West Claude Street, Tyler, TX 75702 | http://www.msc.fema.gov/lomc | May 27, 2014 | 481185
Travis | Unincorporated areas of Travis County, (13-06-3649P) | The Honorable Samuel T. Biscoe, Travis County Judge, P.O. Box 1748, Austin, TX 78767 | Travis County Administration Building, Transportation and Natural Resources Department, 700 Lavaca Street, 5th Floor, Austin, TX 78701 | http://www.msc.fema.gov/lomc | June 12, 2014 | 481026
Victoria | City of Victoria, (13-06-3977P) | The Honorable Paul Polasek, Mayor, City of Victoria, P.O. Box 1758, Victoria, TX 77902 | Department of Development Services, 702 North Main Street, Suite 122, Victoria, TX 77901 | http://www.msc.fema.gov/lomc | May 30, 2014 | 480638
Virginia: Fairfax | Unincorporated areas of Fairfax County, (13-03-2380P) | Mr. Edward L. Long, Jr., Fairfax County Executive, 12000 Government Center Parkway, Fairfax, VA 22035 | Fairfax County Stormwater Planning Division, 12000 Government Center Parkway, Suite 449, Fairfax, VA 22035 | http://www.msc.fema.gov/lomc | June 16, 2014 | 515525

(Catalog of Federal Domestic Assistance No. 97.022, “Flood Insurance.”)

Dated: April 14, 2014.
Roy E. Wright,
Deputy Associate Administrator for Mitigation, Department of Homeland Security, Federal Emergency Management Agency.

[FR Doc. 2014-09727 Filed 4-28-14; 8:45 am]

BILLING CODE 9110-12-P